DEPARTMENT OF AGRICULTURE

U.S. Codex Office

Codex Alimentarius Commission: Meeting of the Codex Committee on Residues of Veterinary Drugs in Foods

AGENCY: U.S. Codex Office, USDA.

ACTION: Notice of public meeting and request for comments.

SUMMARY: The U.S. Codex Office is sponsoring a public meeting on January 19, 2023, from 1-3 p.m. EST. The objective of the public meeting is to provide information and receive public comments on agenda items and draft United States (U.S.) positions to be discussed at the 26th Session of the Codex Committee on Residues of Veterinary Drugs in Foods (CCRVDF)of the Codex Alimentarius Commission, which will meet in Portland, Oregon, from February 13-17, 2023. The U.S. Manager for Codex Alimentarius and the Acting Deputy Under Secretary, Office of Trade and Foreign Agricultural Affairs, recognize the importance of providing interested parties the opportunity to obtain background information on the 26th Session of the CCRVDF and to address items on the agenda.

DATES: The public meeting is scheduled for January 19, 2023, from 1-3 p.m. EST.

ADDRESSES: The public meeting will take place via video teleconference only. Documents related to the 26th Session of the CCRVDF will be accessible via the internet at the following address: https://www.fao.org/fao-who-codexalimentarius/meetings/detail/it/?meeting=CCRVDF&session=26.

Dr. Jonathan Greene, U.S. Delegate to the 26th Session of the CCRVDF, invites interested U.S. parties to submit their comments electronically to the following email address: Jonathan.Greene1@fda.hhs.gov.

Registration: Attendees may register to attend the public meeting here: https://www.zoomgov.com/meeting/register/vJIsc-6hqTMjE5ICvoM7yPKT1nGbIslVVf0.

After registering, you will receive a confirmation email containing information about joining the meeting.

FOR FURTHER INFORMATION CONTACT: For further information about the 26th session of CCRVDF, contact Jonathan M. Greene, Ph.D., Biologist, Residue Chemistry Team, HFV 151, Division of Human Food Safety, Office of New Animal Drug Evaluation, Center for Veterinary Medicine, U.S. Food and Drug Administration, Phone +1(240)402-4697, Email: Jonathan.Greene1@fda.hhs.gov. For further information contact about the public meeting, contact: Ken Lowery, U.S. Codex Office, 1400 Independence Avenue SW. Room 4861, South Building, Washington, DC 20250. Phone:(202) 690-4042, Email: ken.lowery@usda.gov.

SUPPLEMENTARY INFORMATION:

Background

The Codex Alimentarius Commission was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference for the Codex Committee on Residues of Veterinary Drugs in Foods (CCRVDF) are:

(a) to determine priorities for the consideration of residues of veterinary drugs in foods;

(b) to recommend Maximum Residue Limits (MRLs) for veterinary drugs;

(c) to develop codes of practice as may be required; and,

(d) to consider methods of sampling and analysis for the determination of veterinary drug residues in foods.

A veterinary drug is defined as any substance applied or administered to any food producing animal, such as meat or milk producing animals, poultry, fish, or bees, whether used for therapeutic, prophylactic or diagnostic purposes, or for modification of physiological functions or behavior.

A Codex Maximum Residue Limit (MRL) for residues of veterinary drugs is the maximum concentration of residue resulting from the use of a veterinary drug (expressed in mg/kg or ug/kg on a fresh weight basis) that is recommended by the Codex Alimentarius Commission to be permitted or recognized as acceptable in or on a food. Residues of a veterinary drug include the parent compounds or their metabolites in any edible portion of the animal product and include residues of associated impurities of the veterinary drug concerned. An MRL is based on the type and amount of residue considered to be without any toxicological hazard for human health as expressed by the Acceptable Daily Intake (ADI) or on the basis of a temporary ADI that utilizes an additional safety factor. When establishing an MRL, consideration is also given to residues that occur in food of plant origin or the environment. Furthermore, the MRL may be reduced to be consistent with official recommended or authorized usage, approved by national authorities, of the veterinary drugs under practical conditions.

An ADI is an estimate made by the Joint FAO/WHO Expert Committee on Food Additives (JECFA) of the amount of a veterinary drug, expressed on a body weight basis, which can be ingested daily in food over a lifetime without appreciable health risk.

The CCRVDF is hosted by the United States of America, and the meeting is attended by the United States as a member country of the Codex Alimentarius.

Issues to Be Discussed at the Public Meeting

The following items on the Agenda for the 26th Session of the CCRVDF will be discussed during the public meeting:

• Matters referred by CAC and other subsidiary bodies

• Matters of interest arising from FAO/WHO including JECFA

• Matters of interest arising from the Joint FAO/International Atomic Energy Agency (IAEA) Centre

• Matters of interest arising from the World Organisation for Animal Health (WOAH, formerly OIE), including the Veterinary International Conference on Harmonization (VICH)

• MRLs for veterinary drugs in foods

○ MRLs for Ivermectin (sheep, pigs and goats—fat, kidney, liver and muscle)

○ MRLs for Ivermectin (pigs, sheep and goats) and Nicarbazin (chicken)

• Extrapolation of MRLs for veterinary drugs in foods

○ Extrapolated MRLs for different combinations of compounds/commodities

○ Approach for the extrapolation of MRLs for residues of veterinary drugs for offal tissues

• Criteria or requirements for the establishment of action levels for unintended or unavoidable carryover from feed to food of animal origin

• Coordination of work between the Codex Committee on Pesticide Residues (CCPR) and CCRVDF

○ Matters of interest arising from the Joint CCPR/CCRVDF Working Group

○ Work in parallel on issues pertaining to harmonization of edible offal (i.e. Classification of Food and Feed (CXA 4-1989) and Food descriptors—Coordination between JECFA/JMPR)

• Priority list of veterinary drugs for evaluation or re-evaluation by JECFA

• Other business and future work

Public Meeting

At the public meeting on January 19, 2023, draft U.S. positions on the agenda items will be described and discussed, and attendees will have the opportunity to pose questions and offer comments. Written comments may be offered at the meeting or sent to Dr. Jonathan Greene, U.S. Delegate for the 26th Session of the CCRVDF (see ADDRESSES). Written comments should state that they relate to activities of the 26th Session of the CCRVDF.

Additional Public Notification

Public awareness of all segments of rulemaking and policy development is important. Consequently, the U.S. Codex Office will announce this Federal Register publication on-line through the USDA Codex web page located at: http://www.usda.gov/codex, a link that also offers an email subscription service providing access to information related to Codex. Customers can add or delete their subscriptions themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/oascr/filing-program-discrimination-complaint-usda-customer, or write a letter signed by you or your authorized representative. Send your completed complaint form or letter to USDA by mail, fax, or email. Mail: U.S. Department of Agriculture, Director, Office of Adjudication, 1400 Independence Avenue SW, Washington, DC 20250-9410; Fax: (202) 690-7442; Email: program.intake@usda.gov. Persons with disabilities who require alternative means for communication (Braille, large print, audiotape, etc.) should contact USDA's TARGET Center at (202) 720-2600 (voice and TDD).

Done at Washington, DC, on December 23, 2022.
Mary Frances Lowe,
U.S. Manager for Codex Alimentarius.

[FR Doc. 2022-28339 Filed 12-28-22; 8:45 am]

BILLING CODE P